DEPARTMENT OF TRANSPORTATION

Federal Aviation Administration

14 CFR Part 39

[Docket No. FAA-2005-20220; Directorate Identifier 2004-NM-152-AD; Amendment 39-14504; AD 2006-05-07]

RIN 2120-AA64

Airworthiness Directives; Aerospatiale Model ATR42-200, -300, and -320 Airplanes

AGENCY: Federal Aviation Administration (FAA), Department of Transportation (DOT).

ACTION: Final rule.

SUMMARY: The FAA is adopting a new airworthiness directive (AD) for certain Aerospatiale Model ATR42-200, -300, and -320 airplanes. This AD requires doing repetitive inspections of the upper arms of the main landing gear (MLG) side braces for missing or inadequately bonded identification plates; doing an ultrasonic inspection of the upper arm of the MLG side brace for any defects and related investigative/corrective actions if necessary; and replacing the side brace assembly with a modified part. This AD results from an operator who reported experiencing an unlock warning for the MLG on the right side of the airplane. We are issuing this AD to prevent cracking of the upper arms of the side braces of the MLG, which could result in failure of the MLG during landing and possible damage to the airplane and injury to the flightcrew and passengers.

DATES: This AD becomes effective April 13, 2006.

The Director of the Federal Register approved the incorporation by reference of certain publications listed in the AD as of April 13, 2006.

ADDRESSES: You may examine the AD docket on the Internet at http://dms.dot.gov or in person at the Docket Management Facility, U.S. Department of Transportation, 400 Seventh Street, SW., Nassif Building, room PL-401, Washington, DC.

Contact Aerospatiale, 316 Route de Bayonne, 31060 Toulouse, Cedex 03, France, for service information identified in this AD.

FOR FURTHER INFORMATION CONTACT: Tom Rodriguez, Aerospace Engineer, International Branch, ANM-116, Transport Airplane Directorate, FAA, 1601 Lind Avenue, SW., Renton, Washington 98055-4056; telephone (425) 227-1137; fax (425) 227-1149.

SUPPLEMENTARY INFORMATION:

Examining the Docket

You may examine the AD docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a supplemental notice of proposed rulemaking (NPRM) to amend 14 CFR part 39 to include an AD that would apply to certain Aerospatiale Model ATR42-200, -300, and -320 airplanes. That supplemental NPRM was published in the Federal Register on December 13, 2005 (70 FR 73671). That supplemental NPRM proposed to require repetitive inspections of the upper arms of the main landing gear (MLG) side braces for missing or inadequately bonded identification plates; doing an ultrasonic inspection of the upper arm of the MLG side brace for any defects and related investigative/corrective actions if necessary; and replacing the side brace assembly with a modified part.

Comments

We provided the public the opportunity to participate in the development of this AD. No comments have been received on the supplemental NPRM or on the determination of the cost to the public.

Change Made to This AD

We have added a grace period of 25 flight hours to paragraph (i) of this AD for operators who may inadvertently use Revision 1 of Messier-Dowty Special Inspection Service Bulletin 631-32-181, dated March 16, 2005, after the effective date of this AD.

Conclusion

We have carefully reviewed the available data and determined that air safety and the public interest require adopting the AD with the change described previously. We have determined that this change will neither increase the economic burden on any operator nor increase the scope of the AD.

Costs of Compliance

The following table provides the estimated costs for U.S. operators to comply with this AD.

Estimated Costs
Action | Work hours | Average labor rate per hour | Parts | Cost per airplane | Number of U.S.- registered airplanes | Fleet cost
General visual inspection, per inspection cycle | 1 | $65 | None | $65 | 54 | $3,510, per inspection cycle.
Replacement of side brace assemblies | 2 (1 hour per side brace) | 65 | $0 | 130 | 54 | $7,020.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-05-07 Aerospatiale: Amendment 39-14504. Docket No. FAA-2005-20220; Directorate Identifier 2004-NM-152-AD.

Effective Date

(a) This AD becomes effective April 13, 2006.

Affected ADs

(b) None.

Applicability

(c) This AD applies to Aerospatiale Model ATR42-200, -300, and -320 airplanes, certificated in any category; with main landing gear (MLG) side brace assemblies having part number (P/N) D22710000-( ) except -8, equipped with upper arms having P/N D56778-10.

Unsafe Condition

(d) This AD results from an operator who reported experiencing an unlock warning for the MLG on the right side of the airplane. We are issuing this AD to prevent cracking of the upper arms of the side braces of the MLG, which could result in failure of the MLG during landing and possible damage to the airplane and injury to the flightcrew and passengers.

Compliance

(e) You are responsible for having the actions required by this AD performed within the compliance times specified, unless the actions have already been done.

Service Bulletin References

(f) The term “service bulletin,” as used in this AD, means the Accomplishment Instructions of the following service bulletins, as applicable:

(1) For the general visual inspection and ultrasonic inspection specified in paragraphs (g) and (h) of this AD, respectively: Messier-Dowty Special Inspection Service Bulletin 631-32-181, Revision 2, dated June 3, 2005; and

(2) For the replacement specified in paragraph (j) of this AD: Messier-Dowty Service Bulletin 631-32-176, Revision 1, dated June 2, 2004.

Repetitive Inspections of Identification Plates

(g) Within 2 months or 500 flight hours after the effective date of this AD, whichever is first: Do a general visual inspection of the upper arms of the MLG side braces for inadequately bonded identification plates having P/Ns D61565-1, D61566-1, D61567-1, and D61568-1 and for any missing bead of glue, in accordance with the service bulletin. Thereafter at intervals not to exceed 2 months or 500 flight hours, whichever is first: Repeat the inspection of the upper arm of the MLG side brace for any side brace assembly that has not been inspected in accordance with paragraph (h) of this AD or replaced as required by paragraph (j) of this AD.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Ultrasonic Inspection, if Necessary

(h) If any identification plate having P/N D61565-1, D61566-1, D61567-1, or D61568-1 or any bead of glue is missing or found inadequately bonded during any inspection required by paragraph (g) of this AD: Within 25 flight hours since the most recent general visual inspection, do an ultrasonic inspection of the upper arm of the MLG side brace for any defects and do any related investigative and corrective actions as applicable, by doing all of the applicable actions specified in Part 2.B.(3) of the service bulletin; except where the service bulletin specifies replacing the side brace with a side brace equipped with an airworthy upper arm, replace it with a part modified in accordance with paragraph (j) of this AD. Any corrective actions must be done before further flight after doing the ultrasonic inspection.

Additional Ultrasonic Inspection for Certain Airplanes

(i) For airplanes on which the ultrasonic inspection specified in paragraph (h) of this AD has been accomplished in accordance with Messier-Dowty Special Inspection Service Bulletin 631-32-181, Revision 1, dated March 16, 2005: Within 25 flight hours after the effective date of this AD, or within 25 flight hours after the ultrasonic inspection, whichever is later, do all the applicable actions specified in paragraph (h) of this AD in accordance with Messier-Dowty Special Inspection Service Bulletin 631-32-181, Revision 2, dated June 3, 2005.

Replacement With a Modified Side Brace Assembly

(j) At the applicable compliance time specified in paragraph (j)(1) or (j)(2) of this AD: Remove the side brace assembly and replace it with a part modified by doing all of the actions in the service bulletin. Replacement of a side brace assembly with a modified part terminates the repetitive inspections required by paragraph (g) of this AD for that modified side brace assembly only. If the side brace assembly of the left and right MLG is replaced with a modified part, no more work is required by paragraph (g) of this AD.

(1) For airplanes on which Messier-Dowty Service Bulletin 631-32-072 has not been accomplished: Before the accumulation of 15,000 total flight cycles on a side brace assembly since new or since last overhaul, or 96 months on a side brace assembly since new or since last overhaul, whichever is first.

(2) For airplanes on which Messier-Dowty Service Bulletin 631-32-072 has been accomplished: Before the accumulation of 18,000 total flight cycles on a side brace assembly since new or since last overhaul, or 96 months on a side brace assembly since new or since last overhaul, whichever is first.

Credit for Previous Service Bulletin

(k) Replacements done before the effective date of this AD in accordance with Messier-Dowty Service Bulletin 631-32-176, dated February 26, 2004, are acceptable for compliance with the corresponding requirements of paragraph (j) of this AD.

No Reporting Requirement

(l) Although Messier-Dowty Special Inspection Service Bulletin 631-32-181, Revision 2, dated June 3, 2005, specifies to submit certain information to the manufacturer, this AD does not include that requirement.

Alternative Methods of Compliance (AMOCs)

(m)(1) The Manager, International Branch, ANM-116, Transport Airplane Directorate, FAA, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Related Information

(n) French airworthiness directive F-2005-106, dated July 6, 2005, also addresses the subject of this AD.

Material Incorporated by Reference

(o) You must use Messier-Dowty Service Bulletin 631-32-176, Revision 1, dated June 2, 2004; and Messier-Dowty Special Inspection Service Bulletin 631-32-181, Revision 2, dated June 3, 2005, as applicable, to perform the actions that are required by this AD, unless the AD specifies otherwise. Messier-Dowty Service Bulletin 631-32-176, Revision 1, dated June 2, 2004, contains the following effective pages:

Page No. | Revision level shown on page | Date shown on page
1, 3 | 1 | June 2, 2004.
2, 4-9 | Original | February 26, 2004.

Messier-Dowty Special Inspection Service Bulletin 631-32-181, Revision 2, dated June 3, 2005, contains the following effective pages:

Page No. | Revision level shown on page | Date shown on page
1-5, 7-18 | 2 | June 3, 2005.
6 | 1 | March 16, 2005.

The Director of the Federal Register approved the incorporation by reference of these documents in accordance with 5 U.S.C. 552(a) and 1 CFR part 51. Contact Aerospatiale, 316 Route de Bayonne, 31060 Toulouse, Cedex 03, France, for a copy of this service information. You may review copies at the Docket Management Facility, U.S. Department of Transportation, 400 Seventh Street SW., room PL-401, Nassif Building, Washington, DC; on the Internet at http://dms.dot.gov; or at the National Archives and Records Administration (NARA). For information on the availability of this material at the NARA, call (202) 741-6030, or go to http://www.archives.gov/federal_register/code_of_federal_regulations/7fxsp0;ibr_locations.html.

Issued in Renton, Washington, on February 22, 2006.
Michael J. Kaszycki,
Acting Manager, Transport Airplane Directorate, Aircraft Certification Service.

[FR Doc. 06-2145 Filed 3-8-06; 8:45 am]

BILLING CODE 4910-13-P